DEPARTMENT OF TRANSPORTATION

Federal Aviation Administration

14 CFR Part 71

[Docket No. FAA-2004-19333; Airspace Docket No. 04-ACE-62]

Modification of Class E Airspace; Warrensburg, MO

AGENCY: Federal Aviation Administration (FAA), DOT.

ACTION: Direct final rule; request for comments; correction.

SUMMARY: This action corrects a direct final rule; request for comments that was published in the Federal Register on Friday, October 29, 2004, (69 FR 63063) (FR Doc. 04-24260). It corrects an error in the legal description of the Class E airspace area extending upward from 700 feet above the surface at Warrensburg, MO.

DATES: This direct final rule is effective on 0901 UTC, January 20, 2005.

FOR FURTHER INFORMATION CONTACT: Brenda Mumper, Air Traffic Division, Airspace Branch, ACE-520A, DOT Regional Headquarters Building, Federal Aviation Administration, 901 Locust, Kansas City, MO 64106; telephone (816) 329-2524.

SUPPLEMENTARY INFORMATION:

History

Federal Register document 04-24260, published on Friday, October 29, 2004, (69 FR 63063) modified the Class E airspace area extending upward from 700 feet above the surface at Warrensburg, MO. The modification corrected a discrepancy in the Skyhaven Airport airport reference point used in the legal description, enlarged the airspace dimensions to protect for diverse departures, deleted an extension to the airspace area and brought the legal description of the Warrensburg, MO Class E airspace area into compliance with FAA Orders 7400.2E, Procedures for Handling Airspace Matters, and 8260.19C, Flight Procedures and Airspace. However, expansion of the Warrensburg, MO Class E airspace area created an overlapping of the Knob Noster, MO Class D airspace area. No provision was made in the Warrensburg, MO Class E airspace area legal description for this situation.

Accordingly, pursuant to the authority delegated to me, the legal description of the Class E airspace area extending upward from 700 feet above the surface at Warrensburg, MO, as published in the Federal Register on Friday, October 29, 2004, (69 FR 63063) (FR Doc. 04-24260) is corrected as follows:

§ 71.1 [Corrected]

On page 63064, Column 1, under the heading “ACE MO E5 Warrensburg, MO”, correct the last line to read “of Skyhaven Airport; excluding that airspace within the Knob Noster, MO Class D airspace area.”

Issued in Kansas City, MO, on November 3, 2004.
Anthony D. Roetzel,
Acting Area Director, Western Flight Services Operations.

[FR Doc. 04-25417 Filed 11-15-04; 8:45 am]

BILLING CODE 4910-13-M